DEPARTMENT OF TRANSPORTATION

Federal Highway Administration

Notice of Final State Agency Actions on Proposed Transportation Project in Arizona

AGENCY: Federal Highway Administration (FHWA), Department of Transportation (DOT).

ACTION: Notice of limitation on claims for judicial review.

SUMMARY: The FHWA, on behalf of the Arizona Department of Transportation (ADOT), is issuing this notice to announce actions taken by ADOT and other relevant Federal agencies that are final agency actions. The actions relate to the proposed project Interstate 10 and Koli Road Traffic Interchange in Maricopa County, Arizona (AZ).

DATES: By this notice, the FHWA, on behalf of ADOT, is advising the public of final agency actions subject to 23 U.S.C. 139(l)(1). A claim seeking judicial review of the Federal agency actions on the listed highway project will be barred unless the claim is filed on or before July 20, 2026. If the Federal law that authorizes judicial review of a claim provides a time period of less than 150 days for filing such claim, then that shorter time period still applies.

ADDRESSES: The Environmental Assessment, Finding of No Significant Impact, and additional project documents can be viewed and downloaded from the project website at https://i10wildhorsepasscorridor.com/corridor-planning or by contacting ADOT Environmental Planning, 205 S 17th Avenue, MD EM02, Phoenix, Arizona 85007, during normal business hours 8:00 a.m. to 4:30 p.m. (Mountain Standard Time), Monday through Friday, except State holidays.

FOR FURTHER INFORMATION CONTACT: Mr. Steven Olmsted, NEPA Assignment Manager, Environment Planning, Arizona Department of Transportation, telephone: (480) 202-6050, email: solmsted@azdot.gov.

You may also contact: Mr. Paul O'Brien, Environmental Planning Administrator, Arizona Department of Transportation, telephone: (480) 356-2893, email: POBrien@azdot.gov.

SUPPLEMENTARY INFORMATION: Effective April 16, 2019, and as subsequently renewed on June 25, 2024, the FHWA assigned, and ADOT assumed, environmental responsibilities for this project pursuant to 23 U.S.C. 327. Notice is hereby given that ADOT and other relevant Federal agencies have taken final agency actions subject to 23 U.S.C. 139(l)(1) by issuing licenses, permits, or approvals for the proposed improvement highway project. The actions by ADOT and other Federal agencies on the project, and the laws under which such actions were taken are described in the Environmental Assessment and Finding of No Significant Impact approved on October 15, 2025, and in other project records for the listed project. The Environmental Assessment, Finding of No Significant Impact, and other project records are available by contacting ADOT at the addresses provided above.

The Project subject to this notice is:

Project Location: The project limits will be located on Interstate 10 at approximately milepost 163.5, between the existing Wild Horse Pass Boulevard TI and State Route 347 and Queen Creek Road TI. The proposed action is located on Gila River Indian Community land and allotted lands just south of the cities of Phoenix and Chandler.

Project Actions: This notice applies to the Environmental Assessment, Finding of No Significant Impact, and all other Federal agency licenses, permits, or approvals for the listed project as of the issuance date of this notice including all laws under which such were taken, including but not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310].

5. Wildlife: Endangered Species Act (ESA) [16 U.S.C. 1531-1544 and 1536]; Marine Mammal Protection Act [16 U.S.C. 1361-1423h], Anadromous Fish Conservation Act [16 U.S.C. 757(a)-757(f)]; Fish and Wildlife Coordination Act [16 U.S.C. 661-667(d)]; Migratory Bird Treaty Act (MBTA) [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 3006101 et seq.]; Archaeological Resources Protection Act of 1979 (ARPA) [16 U.S.C. 470(aa)-470(II)]; Preservation of Historical and Archaeological Data [54 U.S.C. 312501-312508]; Native American Grave Protection and Repatriation Act (NAGPRA) [25 U.S.C. 3001-3013; 18 U.S.C. 1170].

7. Social and Economic: Civil Rights Act of 1964 [42 U.S.C. 2000d-2000d-1]; American Indian Religious Freedom Act [42 U.S.C. 1996]; Farmland Protection Policy Act (FPPA) [7 U.S.C. 4201-4209].

8. Wetlands and Water Resources: Clean Water Act (Section 319, Section 401, Section 404) [33 U.S.C. 1251-1387]; Coastal Barriers Resources Act (CBRA) [16 U.S.C. 3501-3510]; Coastal Zone Management Act (CZMA) [16 U.S.C. 1451-1466]; Safe Drinking Water Act (SDWA) [42 U.S.C. 300f-300j-26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1)).

Issued on: February 18, 2026.
Anthony Sarhan,
Deputy Division Administrator, Phoenix, AZ.

[FR Doc. 2026-03383 Filed 2-19-26; 8:45 am]

BILLING CODE P